NUCLEAR REGULATORY COMMISSION

[Docket No. 50-333]

Entergy Nuclear Operations Inc.; James A. Fitzpatrick Nuclear Power Plant; Environmental Assessment and Finding of No Significant Impact

The U.S. Nuclear Regulatory Commission (NRC) is considering issuance of an exemption from the requirements of part 50 of Title 10 of the Code of Federal Regulations (10 CFR), Appendix R, “Fire Protection Program for Nuclear Power Facilities Operating Prior to January 1, 1979,” issued to Entergy Nuclear Operations, Inc. (the licensee), for the operation of the James A. FitzPatrick Nuclear Power Plant (JAF) located in Oswego County, NY. Therefore, as required by 10 CFR 51.21, the NRC is issuing this environmental assessment and finding of no significant impact.

Environmental Assessment

Identification of the Proposed Action: The proposed action would allow the usage of the Hemyc fire barrier wrap installed in the West Cable Tunnel to protect a safe shutdown power cable. The licensee stated that recent tests indicate the Hemyc fire barrier lacks sufficient evidence to demonstrate that it meets the acceptance criteria for a rated 1 hour fire barrier. But the licensee states that the Hemyc fire barrier will provide a reasonable level of resistance to fire due to the fact that the area where the fire barrier wrap is located has no significant ignition sources other than cables, has available manual suppression capability, is equipped with automatic fire suppression and fire detection, and administrative controls limit the presence of transient combustible materials and transient ignition sources.

The proposed action is in accordance with the licensee's application dated July 27, 2005, as supplemented on May 17, 2006.

The Need for the Proposed Action: The proposed exemption from 10 CFR part 50, Appendix R, III.G.2.c, is needed in response to NRC Information Notice 2005-07. The information notice provided licensees the details of Hemyc electrical raceway fire barrier system (ERFBS) full-scale fire tests conducted by the NRC's Office of Nuclear Regulatory Research. The test results concluded that the Hemyc ERFBS does not provide the level of protection expected for a 1 hour rated fire barrier, as originally designed.

Environmental Impacts of the Proposed Action: The NRC has completed its safety evaluation of the proposed action and concludes that the configuration of the fire zone under review provides reasonable assurance that a severe fire is not plausible and the existing fire protection features are adequate. The details of the staff's evaluation will be provided in the exemption that will be issued as part of the letter to the licensee approving the exemption to the regulation. Based on the presence of area-wide smoke detection; the presence of automatic area and in-tray fire suppression and manual fire suppression; fire barrier protection at the boundaries of the fire zone; the existing Hemyc configuration in the fire zone; implementation of transient combustibles controls including proposed revisions for hot work in the vicinity of the Hemyc configuration; and the absence of significant combustible loading and ignition sources, the NRC staff finds that the use of this Hemyc fire barrier in this zone will not significantly increase the consequences from a fire in this fire zone.

The proposed action will not significantly increase the probability or consequences of accidents. No changes are being made in the types of effluents that may be released off site. There is no significant increase in the amount of any effluent released off site. There is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action: As an alternative to the proposed action, the NRC staff considered denial of the proposed action (i.e., the “no-action” alternative). Denial of the application would result in no change in current environmental impacts. The environmental impacts of the proposed action and the alternative action are similar.

Alternative Use of Resources: The action does not involve the use of any different resources than those previously considered in the Final Environmental Statement for the James A. FitzPatrick Nuclear Power Plant, dated March 1973.

Agencies and Persons Consulted: In accordance with its stated policy, on August 9, 2006, the NRC staff consulted with the New York State official, John Spath, of the New York State Energy Research and Development Authority, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated July 27, 2005, Agencywide Documents Access and Management System (ADAMS) accession number ML052210382, as supplemented on May 17, 2006, ADAMS accession number ML061530108. Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or by e-mail to pdr@nrc.gov.

Dated at Rockville, Maryland, this 7th day of September 2006.
For the Nuclear Regulatory Commission.
Patrick D. Milano,
Senior Project Manager, Plant Licensing Branch I-1, Division of Operating Reactor Licensing, Office of Nuclear Reactor Regulation.

[FR Doc. E6-15133 Filed 9-12-06; 8:45 am]

BILLING CODE 7590-01-P